DEPARTMENT OF STATE

[Public Notice: 7267]

60-Day Notice of Proposed Information Collection: DS 4053, Department of State Mentor-Protégé Program Application, OMB 1405-0161

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Department of State Mentor-Protégé Program Application.

• OMB Control Number: OMB 1405-0161.

• Type of Request: Extension of a Currently Approved Collection.

• Originating Office: Bureau of Administration, Office of Small and Disadvantaged Business Utilization—A/SDBU.

• Form Number: DS-4053.

• Respondents: Small and large for-profit companies planning to team together in an official mentor-protégé capacity to improve the likelihood of winning DOS contracts.

• Estimated Number of Respondents: 14 respondents per year.

• Estimated Number of Responses: 14 per year.

• Average Hours Per Response: 21.

• Total Estimated Burden: 294.

• Frequency: On occasion.

• Obligation to Respond: Required to Obtain Benefit.

DATES: The Department will accept comments from the public up to 60 days from January 11, 2011.

ADDRESSES: You may submit comments by any of the following methods:

• E-mail: culbrethpb@state.gov.

• Mail (paper, disk, or CD-ROM submissions): A/SDBU, Patricia Culbreth, SA-6, Room L-500, Washington DC 20522-0602.

• Fax: 703-875-6825.

• Hand Delivery or Courier: 1701 North Ft. Myer Drive, Arlington, Virginia 22209. You must include the DS form number, information collection title, and OMB control number in any correspondence.

• If you have access to the Internet you can view this notice and provide comments by going to http://www.regulations.gov/search/Regs/home.html#home.

FOR FURTHER INFORMATION CONTACT: Direct requests for additional information regarding the collection listed in this notice, including requests for copies of the proposed information collection and supporting documents, to Patricia Culbreth, A/SDBU, Patricia Culbreth, SA-6, Room L-500, Washington DC 20522-0602 who may be reached on 703-875-6881. E-mail: culbrethpb@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: This information collection facilitates continuation of a mentor-protégé program that encourages business agreements between small and large for-profit companies planning to team together in an official mentor-protégé capacity to improve the likelihood of winning DOS contracts. This program assists the State Department OSDBU office in reaching its small business goals.

Methodology: Respondents may submit the information by e-mail using DS-4053, or by letter using fax or postal mail.

Additional Information: None.

Dated: January 4, 2011.
Shapleigh C. Drisko,
Operations Director, Office of Small and Disadvantaged Business Utilization, Department of State.

[FR Doc. 2011-359 Filed 1-10-11; 8:45 am]

BILLING CODE 4710-24-P